DEPARTMENT OF COMMERCE

National Oceanic and Atmospheric Administration

RIN 0648-XG287

Pacific Fishery Management Council; Public Meeting

AGENCY: National Marine Fisheries Service (NMFS), National Oceanic and Atmospheric Administration (NOAA), Commerce.

ACTION: Notice of a public meeting.

SUMMARY: The Pacific Fishery Management Council's (Pacific Council) adhoc Sablefish Management and Trawl Allocation Attainment Committee (SaMTAAC) will hold a meeting.

DATES: The meeting will be held Friday, June 29, 2018, starting at 8 a.m. and will end when business for the day has been completed.

ADDRESSES: The meeting will be held at the Waterton Hotel, 4242 Roosevelt Way NE, Seattle, WA 98105; telephone: (206) 826-4242.

Council address: Pacific Fishery Management Council, 7700 NE Ambassador Place, Suite 101, Portland, OR 97220-1384.

FOR FURTHER INFORMATION CONTACT: Dr. Jim Seger, Pacific Council; telephone: (503) 820-2416.

SUPPLEMENTARY INFORMATION: This will be the first SaMTAAC meeting and its primary purpose is to orient the SaMTAAC and its advisors around to its charge, review information and alternatives already developed, and identify additional information that may be helpful to the committee for its first full meeting. The committee's charge is as follows: Identifying obstacles to achieving the goals and objectives of the catch share plan related to under attainment of non-sablefish trawl allocations and unharvested sablefish quota pounds (QP) south of 36° N latitude. As appropriate to overcome identified obstacles, the committee will discuss and develop options, including but not limited to, actions that may modify rules for gear switching by trawl permit holders and QP leasing to vessels using fixed gear, as well as options that may encourage increased utilization of sablefish QPs south of 36° N latitude.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at kris.kleinschmidt@noaa.gov or (503) 820-2411 at least 10 days prior to the meeting date.

Dated: June 8, 2018.
Rey Israel Marquez,
Acting Deputy Director, Office of Sustainable Fisheries, National Marine Fisheries Service.

[FR Doc. 2018-12689 Filed 6-12-18; 8:45 am]

BILLING CODE 3510-22-P